DEPARTMENT OF LABOR

Employment and Training Administration

Investigations Regarding Certifications of Eligibility to Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 14, 2007.

Interested persons are invited to submit written comments regarding the subject matter of the investigations to the Director, Division of Trade Adjustment Assistance, at the address shown below, not later than May 14, 2007.

The petitions filed in this case are available for inspection at the Office of the Director, Division of Trade Adjustment Assistance, Employment and Training Administration, U.S. Department of Labor, Room C-5311, 200 Constitution Avenue, NW., Washington, DC 20210.

Signed at Washington, DC, this 26th day of April 2007.
Ralph DiBattista,
Director, Division of Trade Adjustment Assistance.

Appendix
[TAA petitions instituted between 4/16/07 and 4/20/07]
TA-W | Subject Firm (petitioners) | Location | Date of institution | Date of petition
61313 | EBM Textiles LLC (Comp) | Connelly Springs, NC | 04/16/07 | 04/13/07
61314 | Tridon (Comp) | Smyrna, TN | 04/16/07 | 03/19/07
61315 | Double-H Boots Co. (Comp) | Womelsdorf, PA | 04/16/07 | 04/12/07
61316 | Sklar Peppler (State) | Portland, OR | 04/16/07 | 04/13/07
61317 | Spacelabs Medical (Wkrs) | Irvine, CA | 04/16/07 | 04/06/07
61318 | Epic Technologies, LLC (Comp) | Johnson City, TN | 04/17/07 | 04/16/07
61319 | Sherwood Harsco Gassery (USWA) | Washington, PA | 04/17/07 | 04/09/07
61320 | TK Holdings, Inc./Moses Lake Inflator Operation (Comp) | Moses Lake, WA | 04/17/07 | 04/16/07
61321 | Starkey East Labs (State) | Mt. Laural, NJ | 04/17/07 | 04/16/07
61322 | Oregon Cutting Systems Group (Comp) | Clackamas, OR | 04/18/07 | 04/17/07
61323 | Rapid Die & Engineering, Inc (Comp) | Grand Rapids, MI | 04/18/07 | 04/17/07
61324 | Ford Motor Company (UAW) | Wixom, MI | 04/18/07 | 04/12/07
61325 | Metro Furniture (Comp) | Oakland, CA | 04/18/07 | 04/17/07
61326 | Dana Corporation (UAW) | Syracuse, IN | 04/18/07 | 04/12/07
61327 | Freightliner LLC (UAW) | Mt. Holly, NC | 04/18/07 | 04/13/07
61328 | H.C. Starck, Inc. (Wkrs) | Latrobe, PA | 04/18/07 | 04/16/07
61329 | Fleetwood Travel Trailors of California (State) | Rialto, CA | 04/18/07 | 04/16/07
61330 | Valeo Electrical Systems (IUE) | Rochester, NY | 04/18/07 | 04/10/07
61331 | Fiber Tech Group, Inc (State) | Rogers, AR | 04/18/07 | 04/17/07
61332 | Cooper Tire and Rubber Company ( ) | Texarkans, AR | 04/18/07 | 04/17/07
61333 | Coats American, Inc. (Comp) | Marble, NC | 04/18/07 | 04/16/07
61334 | Cinram Manufacturing LLC (Comp) | Olyphant, PA | 04/18/07 | 04/17/07
61335 | Mr. Gasket, Inc. (Comp) | Carson City, NV | 04/18/07 | 04/16/07
61336 | Tecumseh Power (Other) | New Holstein, WI | 04/19/07 | 04/16/07
61337 | MYOB U.S. Inc. (Wkrs) | Denville, NJ | 04/19/07 | 04/18/07
61338 | Willow Hill Industries, LLC (Comp) | Willoughby, OH | 04/19/07 | 04/18/07
61339 | Klote International Corp. (State) | Maryville, TN | 04/19/07 | 04/18/07
61340 | Tube Specialties Co. Inc. (State) | Troutdale, OR | 04/19/07 | 04/18/07
61341 | Carrier Access Corp. (Wkrs) | Roanoke, VA | 04/20/07 | 04/19/07
61342 | APL, Limited (Wkrs) | Oakland, CA | 04/20/07 | 04/19/07
61343 | Wentworth Corp. dba Liberty Textiles (Comp) | Eden, NC | 04/20/07 | 04/19/07
61344 | Three-l Industries (State) | Monroe, LA | 04/20/07 | 04/19/07
61345 | Acvato Services (Wkrs) | Melbourne, FL | 04/20/07 | 04/05/07
61346 | Northland Tool Corp. (Comp) | Traverse City, MI | 04/20/07 | 04/17/07
61347 | Wellman Inc. (Comp) | Fort Mill, SC | 04/20/07 | 04/11/07
61348 | Nortech Systems (State) | Bemidji, MN | 04/20/07 | 04/19/07
61349 | Revere Copper Products, Inc. (Comp) | New Bedford, MA | 04/20/07 | 04/19/07

[FR Doc. E7-8462 Filed 5-2-07; 8:45 am]

BILLING CODE 4510-FN-P